DEPARTMENT OF THE INTERIOR

Geological Survey

[GX23DK40GUK0100; OMB Control Number 1028-0097]

Agency Information Collection Activities; Submission to the Office of Management and Budget for Review and Approval; Water Resources Research Act Program—State Water Resources Research Institute Annual Base Grant, National Competitive Grants, and Reporting

AGENCY: Geological Survey, Interior.

ACTION: Notice of information collection; request for comment.

SUMMARY: In accordance with the Paperwork Reduction Act (PRA) of 1995, the U.S. Geological Survey (USGS) is proposing to renew an information collection.

DATES: Interested persons are invited to submit comments on or before February 13, 2023.

ADDRESSES: Written comments and recommendations for the proposed information collection should be sent within 30 days of publication of this notice to www.reginfo.gov/public/do/PRAMain. Find this particular information collection by selecting “Currently under 30-day Review—Open for Public Comments” or by using the search function. Written comments may also be sent by mail to the U.S. Geological Survey, Information Collections Officer, 12201 Sunrise Valley Drive MS 159, Reston, VA 20192; or by email to gs-info_collections@usgs.gov. Please reference OMB Control Number 1028-0097 in the subject line of your comments.

FOR FURTHER INFORMATION CONTACT: To request additional information about this Information Collection Request (ICR), contact the Water Resources Research Act (WRRA) Program Manager by email at gs-w_opp_wrra_team@usgs.gov or by telephone at 502-413-7699. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on July 11, 2022, (87, 41347). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of responses.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The State Water Resources Research Institutes were established under Section 104(a) of the WRRA [42 U.S.C. 10303(a)]. There are 54 Water Resources Research Institutes, one in each state, the District of Columbia, Puerto Rico, the U.S. Virgin Islands, and Guam; the Institute in Hawaii also serves American Samoa and the Institute in Guam serves both the Federated States of Micronesia and the Commonwealth of the Northern Mariana Islands. These Institutes cooperate with the USGS on reporting on the science that is accomplished and coordinating and facilitating regional research, outreach, and technology transfer.

The USGS WRRA program issues an annual announcement to solicit applications for noncompetitive State Water Resources Research Program annual base grants authorized by section 104(c) and for the national competitive grant program authorized by section 104(g) of the WRRA of 1984 (Pub. L. 98-242), as amended [42 U.S.C. 10303(c)].

Annual base grants (104(c)) may support research- and information-transfer projects as well as administrative projects that advance the institutes' overall administration and objectives; these research projects are generally selected in a competitive statewide solicitation, peer-review, and selection process designed and conducted by each institute. National competitive grants (104(g)) focus on water problems and issues of a regional or interstate nature beyond those of concern only to a single state and which relate to specific program priorities identified jointly by the Secretary of the Interior (delegated to the USGS) and the institutes.

Title of Collection: Water Resources Research Act Program—State Water Resources Research Institute Annual Base Grants, National Competitive Grants, and Reporting.

OMB Control Number: 1028-0097.

Form Number: None.

Type of Review: Extension of a currently approved collection.

Respondents/Affected Public: Universities.

Total Estimated Number of Annual Respondents: 54.

Total Estimated Number of Annual Responses: 54.

Estimated Completion Time per Response: 80 hours.

Total Estimated Number of Annual Burden Hours: 4,320 hours.

Respondent's Obligation: Required to Obtain or Retain a Benefit.

Frequency of Collection: Annually.

Total Estimated Annual Nonhour Burden Cost: None.

An agency may not conduct or sponsor, nor is a person required to respond to, a collection of information unless it displays a currently valid OMB control number.

The authority for this action is the PRA of 1995 (44 U.S.C. 3501 et seq.).

Tanja Williamson,
Acting WRRA Program Manager, U.S. Geological Survey.

[FR Doc. 2023-00532 Filed 1-11-23; 8:45 am]

BILLING CODE P